ENVIRONMENTAL PROTECTION AGENCY

[OEI-2003-0025; FRL-7520-9]

Toxic Chemical Release Reporting; Request for Comment on Renewal Information and Proposed Changes to Part II of the Form R Collection

AGENCY: Environmental Protection Agency (EPA).

ACTION: Notice.

SUMMARY: In compliance with the Paperwork Reduction Act (PRA) (44 U.S.C. 3501 et seq.), this notice announces that EPA is planning to submit the following continuing Information Collection Request (ICR) to the Office of Management and Budget (OMB) pursuant to procedures described in 5 CFR 1320.12: Toxic Chemical Release Reporting (EPA ICR No. 1363.13, OMB No. 2070-0093). This ICR involves a collection activity that is currently approved and scheduled to expire on October 31, 2003. EPA ICR No. 1363.12 was approved by OMB on March 10, 2003, with a shorter than usual clearance in order to provide the EPA an opportunity to examine in more detail the TRI burden estimates and opportunities for reducing burden and enhancing the practical utility of the data. A revised draft Form R is included in this ICR. The redesigned draft Form R collects all the same information as the prior form; however, it collects that information in a different format. EPA is proposing this draft Form R based on feedback received from stakeholders in an effort to collect information in a more logical, simplistic manner. Section V below and sections 1 (b) and 3 (b) of the ICR Supporting Statement discuss the proposed Form R changes in greater detail. Also, a copy of the proposed new Form R and a crosswalk between the proposed Form R and the previous version of the Form R are included as Attachment G of the ICR Supporting Statement. Before submitting this ICR to the Office of Management and Budget (OMB) for review and approval under the PRA, EPA is soliciting comments on specific aspects of the collection as described below.

DATES: Comments, identified by the docket control number OEI-2003-0025 must be submitted on or before September 2, 2003.

ADDRESSES: Comments may be submitted by mail, electronically, or in person. Please follow the detailed instructions for each method as provided in Unit III. of the SUPPLEMENTARY INFORMATION section of this notice.

FOR FURTHER INFORMATION CONTACT: For general information contact: The Emergency Planning and Community Right-to-Know Hotline at (800) 424-9346 or (703) 412-9810, TDD (800) 553-7672, http://www.epa.gov/epaoswer/hotline/. For technical information about this ICR renewal contact: Judith Kendall, Toxics Release Inventory Program Division, OEI, Environmental Protection Agency (2844T), 1200 Pennsylvania Ave., NW., Washington, DC 20460, Telephone: 202-566-0750; Fax: 202-566-0727; e-mail: kendall.judith@epa.gov.

SUPPLEMENTARY INFORMATION:

I. Does This Notice Apply to Me?

Affected Entities: Entities that will be affected by this action are those facilities that manufacture, process, or otherwise use certain toxic chemicals listed on the Toxics Release Inventory (TRI) and which are required under section 313 of the Emergency Planning and Community Right-to-Know Act of 1986 (EPCRA) to report annually to EPA their environmental releases and other waste management activities involving such chemicals.

Currently, those industries with the following SIC code designations (that meet all other threshold criteria for TRI reporting) must report toxic chemical releases and other waste management activities:

• 20-39, manufacturing.

• 10, metal mining (except for SIC codes 1011, 1081, and 1094).

• 12, coal mining (except for SIC code 1241 and extraction activities).

• 4911, 4931 and 4939, electrical utilities that combust coal and/or oil for the purpose of generating power for distribution in commerce.

• 4953, RCRA subtitle C hazardous waste treatment and disposal facilities.

• 5169, chemicals and allied products wholesale distributors.

• 5171, petroleum bulk plants and terminals.

• 7389, solvent recovery services, and

• Federal facilities in any SIC code.

To determine whether you or your business is affected by this action, you should carefully examine the applicability provisions at 40 CFR part 372 and section 3(a) of the Supporting Statement of the information collection. If you have any questions regarding the applicability of this action to a particular entity, consult the person(s) listed in the FOR FURTHER INFORMATION CONTACT section.

II. How Can I Get Additional Information or Copies of This Document and Other Support Documents?

A. In Person

The Agency has established an official public docket for this action under Docket ID no. OEI-2003-0025. The official public docket consists of the documents specifically referenced in this action, any public comments received, and other information related to this action. Although a part of this official docket, the public docket does not include Confidential Business Information (CBI) or other information whose disclosure is restricted by statute. The official public docket is the collection of materials that is available for public viewing at the OEI Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

B. Electronic Availability

Electronic copies of the ICR are available from the EPA home page at the Federal Register—Environmental Documents entry for this document under “Laws and Regulations” (http://www.epa.gov/fedrgstr/). An electronic copy of the collection instrument referenced in this ICR and instructions for its completion are available at http://www.epa.gov/triinter/#forms. An electronic version of the public docket is available through EPA's electronic public docket and comment system, EPA Dockets. You may use EPA Dockets at http://www.epa.gov/edocket/ to submit or view public comments, access the index listing of the contents of the official public dockets, and to access those documents in the public docket that are available electronically. Once in the system, select “search,” then key in the appropriate docket identification number (i.e., OEI-2003-0025).

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

For additional information about EPA's electronic public docket visit EPA Dockets online or see 67 FR 38102, May 31, 2002.

III. How and to Whom Do I Submit Comments?

You may submit comments electronically, by mail, or through hand delivery/courier. To ensure proper receipt by EPA, identify the appropriate docket identification number (i.e., “OEI-2003-0025”) in the subject line on the first page of your comment. Please ensure that your comments are submitted within the specified comment period. Comments received after the close of the comment period will be marked “late.” EPA is not required to consider these late comments. If you wish to submit CBI or information that is otherwise protected by statute, please follow the instructions in Unit IV. Do not use EPA Dockets or e-mail to submit CBI or information protected by statute.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. To access EPA's electronic public docket from the EPA Internet home page, select “Information Sources,” “Dockets,” and “EPA Dockets.” Once in the system, select “search,” and then key in Docket ID No. OEI-2003-0025. The system is an “anonymous access” system, which means EPA will not know your identity, e-mail address, or other contact information unless you provide it in the body of your comment.

ii. E-mail. Comments may be sent by electronic mail (e-mail) to oei.docket@epa.gov. Attention Docket ID No. OEI-2003-0025. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit III.2. These electronic submissions will be accepted in WordPerfect or ASCII file format. Avoid the use of special characters and any form of encryption. All comments and data in electronic form must be identified by the docket control number OEI-2003-0025. Electronic comments on this document may also be filed online at many Federal Depository Libraries.

2. By Mail. Send three copies of your comments to: Document Control Office, Office of Environmental Information (OEI), U.S. Environmental Protection Agency, 1200 Pennsylvania Ave., NW., Washington, DC 20460.

3. By Hand Delivery or Courier. Comments may be delivered in person or by courier to: EPA Docket Center, (EPA/DC) EPA West, Room B102, 1301 Constitution Ave., NW., Washington, DC, attention Docket ID No. OEI-2003-0025.

IV. How Should I Handle CBI Information That I Want to Submit to the Agency?

All comments which contain information claimed as CBI must be clearly marked as such. Three sanitized copies of any comments containing information claimed as CBI must also be submitted and will be placed in the public record for this document. Persons submitting information any portion of which they believe is entitled to treatment as CBI by EPA must assert a business confidentiality claim in accordance with 40 CFR 2.203(b) for each such portion. This claim must be made at the time that the information is submitted to EPA. Information covered by such a claim will be disclosed by EPA only to the extent, and by means of the procedures set forth in 40 CFR part 2, subpart B. If a confidentiality claim does not accompany the information when it is received by EPA, the information may be made available to the public by EPA without further notice to the submitter.

V. What Information is EPA Particularly Interested in?

A. Pursuant to section 3506(c)(2)(a) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

B. Proposed changes to the Form R:

A revised draft Form R is included in this ICR. The draft Form R collects all the same information as the prior form; however, it collects that information in a different format. There are no changes to part I of the Form R. EPA is proposing changes to part II of the Form R based on feedback received from stakeholders through various venues (e.g., Stakeholder Phase I process, ICR renewal process in 2002, letters, meetings, etc.). Specifically, stakeholders have been requesting that EPA provide more clarity in the organization of data that are collected. These changes do not collect any new or different information than has been previously collected. Instead part II now clearly identifies on the Form itself the categories for reporting releases and other waste management activities of toxic chemicals. The previous version of this form collected information using codes to specify categories of releases and other waste management activities (e.g., M73 for Land Treatment). One code, U09—Other Energy Recovery Methods, has been dropped from the revised Form because this element is not applicable since the only energy recovery methods are combustion in a kiln, boiler or industrial furnace. Combustion units other than kilns, boilers and industrial furnaces are used for treatment of the toxic chemical (except for metal and metal compounds). This proposed revision incorporates these codes into the form so it is easier to identify the appropriate release or other waste management activity for the toxic chemical reported, and thus provides greater clarity to the information collected.

Also, in light of feedback received from stakeholders, EPA has broken the information collected on releases in section 8.1 of part II into four subcategories which are; total onsite uncontained releases; total onsite contained disposal; total offsite uncontained releases; and total offsite contained disposal. The category of contained disposal would include the quantities sent to on-site or off-site landfills and Class I Underground Injection Control wells. This would provide a more complete characterization of TRI chemicals in waste streams by distinguishing between releases to ambient media and releases to managed facilities consistent with environmental reporting requirements under other laws. The presence of only one of these factors is not considered enough to consider the release “contained”; for example, regulated air stack emissions are clearly not contained releases. Therefore, all release quantities other than quantities sent to on-site or off-site landfills and Class I Underground Inject Control wells would be included in the category of uncontained releases. This change and others are described in more detail in section 3(b) of the ICR Supporting Statement. Also, a draft of the proposed Form R and crosswalk table can be found in Appendix G of the ICR Supporting Statement.

EPA is interested in receiving comments on the proposed changes to the Form R and is particularly interested in receiving comment on whether the individual waste streams in section 5 are appropriately classified as either contained or uncontained for section 8. In addition, the Agency is soliciting input on whether the headings used in section 8 are appropriate to describe the intended categories.

VI. To What Information Collection Activity or ICR Does This Notice Apply?

EPA is seeking comments on the following ICR, as well as the Agency's intention to renew the corresponding OMB approval, which is currently scheduled to expire on October 31, 2003.

Title: Toxic Chemical Release Reporting.

ICR numbers: EPA ICR No. 1363.13, OMB No. 2070-0093.

Abstract: EPCRA section 313 requires owners and operators of certain facilities that manufacture, process, or otherwise use any of over 650 listed toxic chemicals and chemical categories in excess of applicable threshold quantities to report annually to the Environmental Protection Agency and to the states in which such facilities are located on their environmental releases and transfers of and other waste management activities for such chemicals. In addition, section 6607 of the Pollution Prevention Act (PPA) requires that facilities provide information on the quantities of the toxic chemicals in waste streams and the efforts made to reduce or eliminate those quantities.

Annual reporting under EPCRA section 313 of toxic chemical releases and other waste management information provides citizens with a more complete picture of the total disposition of chemicals in their communities and helps focus industries' attention on pollution prevention and source reduction opportunities. EPA believes that the public has a right to know about the disposition of chemicals within communities and the management of such chemicals by facilities in industries subject to EPCRA section 313 reporting. This reporting has been successful in providing communities with important information regarding the disposition of toxic chemicals and other waste management information of toxic chemicals from manufacturing facilities in their areas.

EPA collects, processes, and makes available to the public all of the information collected. The information gathered under these authorities is stored in a database maintained at EPA and is available through the Internet. This information, commonly known as the Toxics Release Inventory (TRI), is used extensively by both EPA and the public sector. Program offices within EPA use TRI data, along with other sources of data, to establish priorities, evaluate potential exposure scenarios, and undertake enforcement activities. Environmental and public interest groups use the data in studies and reports, making the public more aware of releases of chemicals in their communities.

Comprehensive publicly-available data about releases, transfers, and other waste management activities of toxic chemicals at the community level are generally not available, other than under the reporting requirements of EPCRA section 313. Permit data are often difficult to obtain, are not cross-media and present only a limited perspective on a facility's overall performance. With TRI, and the real gains in understanding it has produced, communities and governments know what toxic chemicals industrial facilities in their area release, transfer, or otherwise manage as waste. In addition, industries have an additional tool for evaluating efficiency and progress on their pollution prevention goals.

Responses to the collection of information are mandatory (see 40 CFR part 372). Respondents may claim all or part of a notice confidential. EPA will disclose information that is covered by a claim of confidentiality only to the extent permitted by, and in accordance with, the procedures in TSCA section 14 and 40 CFR part 2.

An agency may not conduct or sponsor, and a person is not required to respond to, a collection of information unless it displays a currently valid OMB control number. The OMB control numbers for EPA's regulations are listed in 40 CFR part 9 and 48 CFR chapter 15.

VII. What Are EPA's Burden and Cost Estimates for This ICR?

Under the PRA, “burden” means the total time, effort, or financial resources expended by persons to generate, maintain, retain, or disclose or provide information to or for a federal agency. For this collection, it includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

The ICR supporting statement provides a detailed explanation of this estimate, which is only briefly summarized in this notice. The annual public burden for this collection of information is estimated to average 19.5 hours per response. The following is a summary of the estimates taken from the ICR:

Respondents/affected entities: Entities potentially affected by this action are owners or operators of certain facilities that manufacture, process, or otherwise use certain specified toxic chemicals and chemical categories and are required to report annually on the environmental releases and transfers of waste management activities for such chemicals.

Estimated total number of potential responses: 84,000.

Frequency of response: Annual.

Estimated total annual burden hours: 2,403,867.

Estimated total annual burden costs: $106.2 million.

VIII. Are There Changes in the Estimates From the Last Approval?

As a result of OMB's 03/10/2003 approval of the last ICR renewal, OMB's inventory reflects 88,117 responses and 5,566,564 hours for this information collection. This ICR supporting statement is for 84,000 responses and 2,403,867 hours. The reduction in burden of approximately 3.16 million hours is the result of three adjustments.

The first adjustment is to the number of responses. The estimate of 88,117 responses in the existing OMB approval incorporated a predicted reporting increase from the economic analysis of the final rule to lower reporting thresholds for lead and lead compounds. This prediction overestimated actual reporting levels; EPA received about 70 percent of the additional lead and lead compound reports that were forecast. The number of responses in this ICR supporting statement have been adjusted to accurately reflect actual reporting levels (rounded to the next highest thousand responses). This adjustment accounts for a decrease of about 218,000 hours.

The second adjustment is to the unit burden hours. EPA has adjusted the estimate of unit burden hours for Form R completion in subsequent years from 47.1 hours to 14.5 hours based on responses from actual TRI reporting facilities. This adjustment accounts for a decrease of about 2.68 million hours.

The third adjustment relates to the adoption of TRI-ME, an automated reporting software package. EPA has reduced the burden estimates related to Form R Completion and Recordkeeping/Submission by 25 percent for the reports filed using TRI-ME. On an annualized basis, an estimated 60 percent of reports are expected to be filed using TRI-ME over the three years of the ICR. This adjustment accounts for a decrease of about 261,000 hours.

The sum of these adjustments is a decrease of 4,117 responses and 3,162,697 burden hours from the current approved total. These adjustments are described in further detail in the supporting statement for this ICR, available in the public version of the official record.

IX. What Is the Next Step in the Process for This ICR?

EPA will consider the comments received and amend the ICR as appropriate. The final ICR package will then be submitted to OMB for review and approval pursuant to 5 CFR 1320.12. EPA will issue another Federal Register notice pursuant to 5 CFR 1320.5(a)(1)(iv) to announce the submission of the ICR to OMB and the opportunity to submit additional comments to OMB. If you have any questions about this ICR or the approval process, please contact the person(s) listed in the FOR FURTHER INFORMATION CONTACT section.

Dated: June 25, 2003.
Kimberly T. Nelson,
Assistant Administrator, Office of Environmental Information.

[FR Doc. 03-16585 Filed 6-30-03; 8:45 am]

BILLING CODE 6560-50-P